DEPARTMENT OF JUSTICE

[OMB Number 1121-NEW]

Agency Information Collection Activities; Proposed eCollection eComments Requested; New Collection 2014 National Survey of Tribal Court Systems (NSTCS-14)

AGENCY: Bureau of Justice Statistics, Department of Justice.

ACTION: 30-Day notice.

SUMMARY: The Department of Justice (DOJ), Office of Justice Programs (OJP), Bureau of Justice Statistics (BJS) will submit the following information collection to the Office of Management and Budget (OMB) for review and approval in accordance with the Paperwork Reduction Act of 1995. The proposed information collection was previously published in the Federal Register Volume 79, Number 57, pages 16375-16376 on March 25, 2014, allowing a 60-day comment period. Following publication of the 60-day notice, the Bureau of Justice Statistics received and responded to multiple requests for a copy of the proposed information collection instrument and instructions. BJS received comments for questionnaire improvements and suggestions for important items to be included from the Office of Justice Services, at the Bureau of Indian Affairs; the American Probation and Parole Association; the Tribal Law and Policy Institute; Indian Country Justice Partners; the Pretrial Justice Institute (PJI); and the National Highway Traffic Safety Administration of Texas and the BIA Indian Highway Safety Program.

DATES: Comments are encouraged and will be accepted for an additional “thirty days” until September 24, 2014.

FOR FURTHER INFORMATION CONTACT: If you have comments especially on the estimated public burden or associated response time, suggestions, or need a copy of the proposed information collection instrument with instructions or additional information, please contact Steven W. Perry, Statistician, Bureau of Justice Statistics, 810 Seventh St. NW., Washington, DC 20531 (email Steven.W.Perry@usdoj.gov; telephone 202-307-0765). Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the collection of information is necessary for the proper performance of the functions of the Bureau of Justice Statistics, including whether the information will have practical utility;

—Evaluate the accuracy of the agency's estimate of the burden of the collection of information, including the validity of the methodology and assumptions use;

—Evaluate whether and if so how the quality, utility, and clarity of the information to be collected can be enhanced; and

—Minimize the burden of the collection of information on those who are to respond, including through the use of appropriate automated, electronic, mechanical, or other technological collection techniques or other forms of information technology, e.g. permitting electronic submission of responses.

Overview of This Information Collection

(1) Type of Information Collection: New statistical data collection.

(2) Title of the Form/Collection: National Survey of Tribal Court Systems (NSTCS).

(3) Agency form number: The form labels include NSTCS-14L48; NSTCS-14AK; and NSTCS-14CFR. Bureau of Justice Statistics, Office of Justice Programs, United States Department of Justice.

(4) Affected public who will be asked to respond, as well as a brief abstract: Primary: This information collection is a census of tribal court systems that operated in Indian country or on tribal lands during 2014. The Bureau of Justice Statistics (BJS) proposes to implement a National Survey of Tribal Courts (NSTCS). Tribal courts are diverse, with some being extensively elaborate in their development, some based on traditional or indigenous customs, and others are just beginning to develop a contemporary justice system. Over the past decade, legislation such as the Violence against Women Reauthorization Act of 2013, the Tribal Law and Order Act of 2010, and the Adam Walsh Child Protection and Safety Act of 2006 (PL 109-248) have sought to improve public safety in Indian country through expanded jurisdiction over non-Indians for domestic violence cases, increased sentencing authority for tribal courts, and tracking of active protection orders and sex offenders through a registry or database systems. In addition, TLOA specifically requires the Bureau of Justice Statistics (BJS) to (1) establish and implement a comprehensive tribal crime data collection system; (2) support tribal participation in national records and information systems (P.L. 111-211, 124 Stat. 2258, § 251(b)); and (3) report to Congress annually the data collected and analyzed in accordance with the act. Existing information on tribal courts is extremely dated or was conducted with a narrow focus and did not include all of the distinctive areas or types of tribal courts that operate in the U.S.—the lower 48 States, Alaska, and the Courts of Indian Offenses. No reliable and recurring data are collected on the volume and types of criminal and civil cases handle in tribal courts annually, as well as the types of justice programs and services rendered in tribal communities. Hence, the NSTCS will fill these gaps and provide national level statistics on the administration and operation of trial and appellate courts in Indian country. The NSTCS is designed to provide BJS and other interested stakeholders with current empirical information on tribal court systems. A goal of the NSTCS is to obtain national statistics on the types of tribal forums, including joint jurisdictional tribal-state courts; staffing and qualifications; budgets; prosecution; public defense and civil legal services; pretrial, probation and reentry programs; juvenile justice cases; domestic violence and protection orders; enhanced sentencing and expanded jurisdiction capacity; and criminal justice information database access and reporting. These data will help BJS generate aggregate statistics on the organizational structure of the tribal court system, the magnitude and types of cases handled, as well establish baseline measures for comparisons in future iterations. Information will be collected for calendar year 2014.

(5) An estimate of the total number of respondents and the amount of time needed for an average respondent to respond: BJS estimates 595 respondents are eligible to complete this survey. BJS will submit the NSTCS to the 426 tribal courts identified in the lower 48 states and Alaska, the 29 Courts of Federal Regulation, and to the estimated 140 federally recognized tribal governments for which the current existence of a tribal court is unknown. BJS will conduct a complete census of each tribal court, by location and type. Based on pilot testing an average of 2 hours each is needed to complete the form appropriate for the respective tribal systems: NSTCS-14L48, NSTCS-14AK, or NSTCS-14CFR. The NSTCS respondent burden of 2 hours is calculated using an estimate of per respondent by tribe, location or type of court. The burden hours were calculated as follows: (a) NSTCS-14L48 has an average respondent burden of 2 hours and 15 minutes and 336 tribal courts and/or tribes are located in the lower 48 states that will be sent this version of the survey (336 Lower 48 Courts/tribes * 2.25 = 756 hours); (b) NSTCS-14AK has an average respondent burden of 2 hours and about 220 tribal courts and/or tribes located in Alaska will be sent this version of the survey (220 Alaska Courts * 2 = 460 hours); and c) NSTCS-14CFR has an average respondent burden of 1 hour and 30 minutes and about 29 CFR courts will be sent this version of the survey (29 CFR Courts * 1.5 = 43.5 hours). The combined estimated respondent burden for completion of all three questionnaire versions is 1259.5 hours. BJS added 7% or about 86.5 additional burden hours for the non-response follow-up and data validation (1259.5 + 86.5 =1,350 hours). The estimated combined range of burden for all respondents is between 1.5 to 2.5 hours for completion. The following factors were considered when creating the burden estimate: The total number of identified tribal courts, the number of tribes for which the existence of a tribal court or traditional justice forum is unknown, the ability of tribal courts to access or gather the data, and the case management and information system capabilities generally found within Indian country. BJS estimates that nearly all of the approximately 595 respondents will fully complete the questionnaire, either reporting their tribal court systems data and/or confirming the tribe does not operate any form of court system.

(6) An estimate of the total public burden (in hours) associated with the collection: BJS has estimated the total respondent burden for the proposed 2014 NSTCS at 1,350 hours. This estimated total burden includes the time for completion by each federally recognized tribe and/or tribal court tribal courts, Courts of federal regulations, and subsequent time for non-response follow-up or validation. This new estimate of respondent burden has increased from the 300 burden hours noted in the 60 day notice, because BJS has since confirmed the name of 426 tribal courts or traditional forums and will implement a strategy to reduce any coverage error for any potentially unknown tribal court systems.

If additional information is required contact: Jerri Murray, Department Clearance Officer, United States Department of Justice, Justice Management Division, Policy and Planning Staff, Two Constitution Square, 145 N Street NE., Room 3E.405B, Washington, DC 20530.

Dated: August 19, 2014.
Jerri Murray,
Department Clearance Officer for PRA, U.S. Department of Justice.

[FR Doc. 2014-20064 Filed 8-22-14; 8:45 am]

BILLING CODE 4410-18-P